DEPARTMENT OF TRANSPORTATION

Federal Railroad Administration

Moynihan Station Development Project

AGENCY: Federal Railroad Administration (FRA), U.S. Department of Transportation (DOT).

ACTION: Notice of availability of and public comment period for the Moynihan Station Development Project Environmental Assessment.

SUMMARY: The Federal Railroad Administration announces the availability of the Moynihan Station Development Project (Project) Environmental Assessment (EA) for public review and comment. The EA was prepared pursuant to the National Environmental Policy Act of 1969 (NEPA), as amended, 42 U.S.C. 4321 et seq., the Council on Environmental Quality NEPA implementing regulations, 40 CFR parts 1500-1508, and the FRA NEPA procedures, 64 FR 28545 (May 26, 1999). FRA is the lead Federal agency and the New York State Urban Development Corporation d/b/a the Empire State Development Corporation (ESDC) is the lead State agency.

ESDC, its subsidiary Moynihan Station Development Corporation (MSDC), and the Port Authority of New York and New Jersey (PANYNJ) have proposed to redevelop the James A. Farley Building and its Western Annex into a new intermodal transportation facility, to be called the Daniel Patrick Moynihan Station (Moynihan Station). Moynihan Station would be one component of the Project that would also include the commercial redevelopment of the Western Annex and the construction of a 1.1 million square foot mixed-use building fronting on the east side of Eight Avenue between West 33rd and West 34th Streets utilizing development rights associated with the Farley Complex.

DATES: FRA invites interested Members of Congress, state and local governments, other Federal agencies, Native American tribal governments, organizations, and members of the public to provide comments on the EA, which is available at http://www.empire.state.ny.us/Subsidiaries_Projects/MSDC/MSDC.html or by request from MSDC at the address listed below under For Further Information. The 30-day public comment period begins on April 28, 2010 and ends on May 28, 2010. FRA and ESDC will consider all comments received or postmarked by that date in preparing the Final EA. Comments received or postmarked after that date will be considered to the extent practicable.

On April 28, 2010, ESDC and MSDC, in accordance with the New York State Urban Development Corporation Act (UDC Act), will be holding a public hearing to consider the proposed draft March 2010 Phase 1 Amended General Project Plan. The hearing will be held at the James A. Farley Post Office Building, located at 380 West 33rd Street, Room 4500, New York, New York, 10199 from 4 p.m. to 8 p.m. Although FRA and ESDC will not be presenting the EA at this hearing and oral comments on the EA will not be accepted, it is an opportunity for interested parties to learn more about the Project.

ADDRESSES: Comments may be submitted in writing. Written comments may be submitted to ESDC and MSDC at 633 Third Avenue, New York, New York 10017, attention: Rebecca Pellegrini. Written comments will also be accepted at the April 28th public hearing.

FOR FURTHER INFORMATION CONTACT: For further information regarding the EA or the Project, please contact: Ms. Rebecca Pellegrini, Moynihan Station Development Corporation, 633 Third Avenue, New York, New York; or by e-mail at rpellegrini@empire.state.ny.us with “Moynihan Station Development Project” in the subject heading, or Mr. John Winkle, Transportation Industry Analyst, Office of Passenger Programs, Federal Railroad Administration, 1200 New Jersey Ave., SE., Room W38-311, Washington, DC 20590 (telephone 202 493-6067), or by e-mail at John.Winkle@DOT.Gov with “Moynihan Station Development Project” in the subject heading.

SUPPLEMENTARY INFORMATION: I. Description of Project. The approximately 1.3 million square foot Farley Complex occupies a “superblock” from West 31st to West 33rd Streets and from Eighth Avenue to Ninth Avenue. Built over the Pennsylvania Station (Penn Station) rail facilities, including the westernmost portion of most of the passenger platforms and other rail yard facilities, the Farley Complex is integrated into the larger Penn Station Complex.

Penn Station is the busiest transportation facility in the United States, accommodating over 530,000 daily passengers, including intercity passengers riding Amtrak, local commuter rail passengers, and subway riders. It is, however, plagued with design problems. As a result, it is difficult to navigate and has passenger facilities that do not meet current industry standards related to safe egress times and universal accessibility. The station, already operating above its design capacity, is projected to experience a growing passenger load as development continues in the surrounding neighborhoods.

To address the larger issue of inadequate capacity at Penn Station, ESDC, MSDC and FRA have proposed a program of improvements at the Farley Building that will relocate Amtrak's intercity passenger rail operations to a new Moynihan Station to be constructed within the eastern portion of the Farley Building. This work will significantly improve access to, and egress from, the platforms and the connections between Penn Station, the Farley Building, and the existing New York City subway lines.

The project as currently envisioned will take place in two phases. Phase 1 work, which is primarily below street level, will consist of expanding and extending the existing West End Concourse so that it spans all existing tracks (with new access to Eighth Avenue), expanding the existing 33rd Street Connector, adding several platform ventilation elements, and adding several entrances to the new Moynihan Station. Phase 2 will consist of development of the Station itself, including the Train Hall, concourse and street-level portions of the Station, reactivation of currently-unused Platform 12 for passenger use, and the non-Station commercial development of the Farley Complex.

II. Previous Environmental Reviews. The development of plans for improved New York City passenger facilities has been underway since as early as 1991 when Amtrak began planning for a new intermodal transportation facility. The potential availability of the Farley Complex led to additional efforts to devise plans that incorporated passenger rail facilities in the Farley Complex. A series of environmental reviews have accompanied the various proposals for improvements to the Penn Station facilities and site, including most recently the final Environmental Impact Statement (EIS) that was issued by ESDC under SEQRA in August 2006. That EIS evaluated the impacts of a larger project that included relocating Madison Square Garden to the Farley Building and renovating Penn Station itself. Those elements have subsequently been dropped and this EA addresses the Project as currently defined.

Issued in Washington, DC, on April 23, 2010.
Mark E. Yachmetz,
Associate Administrator for Railroad Development.

[FR Doc. 2010-9843 Filed 4-28-10; 8:45 am]

BILLING CODE 4910-06-P